DEPARTMENT OF COMMERCE

National Oceanic and Atmospheric Administration

RIN 0648-XB155

Endangered Species; File Nos. 16549 and 17095

AGENCY: National Marine Fisheries Service (NMFS), National Oceanic and Atmospheric Administration (NOAA), Commerce.

ACTION: Notice; receipt of applications.

SUMMARY: Notice is hereby given that the S.O. Conte Anadromous Fish Research Center, U.S. Geological Survey; Box 796, 1 Migratory Way, Turners Falls, MA 01376, has applied in due form for a permit to take shortnose sturgeon (Acipenser brevirostrum); and also that Entergy Nuclear Operations Inc., 450 Broadway, Suite 3, Buchanan, NY 10511, has applied in due form for a permit to take shortnose sturgeon (Acipenser brevirostrum) and Atlantic sturgeon (Acipenser oxyrinchus oxyrinchus) for purposes of scientific research.

DATES: Written, telefaxed, or email comments must be received on or before May 11, 2012.

ADDRESSES: The application and related documents are available for review by selecting “Records Open for Public Comment” from the Features box on the Applications and Permits for Protected Species (APPS) home page, https://apps.nmfs.noaa.gov, and then selecting File Nos. 16549 or 17095 from the list of available applications.

These documents are also available upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

Written comments on either application should be submitted to the Chief, Permits and Conservation Division

• By email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on the application(s) would be appropriate.

FOR FURTHER INFORMATION CONTACT: Malcolm Mohead or Colette Cairns at (301) 427-8401.

SUPPLEMENTARY INFORMATION: The subject permits are requested under the authority of the Endangered Species Act of 1973, as amended (ESA; 16 U.S.C. 1531 et seq.) and the regulations governing the taking, importing, and exporting of endangered and threatened species (50 CFR 222-226).

File 16549: The applicant is requesting authorization for a scientific research permit for takes of shortnose sturgeon in the wild and captivity. The applicant proposes to determine up and downstream migrations, habitat use, spawning periodicity, seasonal movements of shortnose sturgeon in the Connecticut River (from Agawam, MA to Montague, MA). The applicant also proposes captive animal research in laboratory tests of up- and downstream fish passage studies, swimming performance tests, tagging studies, anesthesiology, behavior, physiology and contaminant studies, as well as producing progeny for further research. Additionally, the applicant requests authorization to collect fertilized embryo from each of the following rivers: Merrimack River (MA), Kennebec River and Androscoggin River (ME). The permit would be valid for five years from the date of issuance.

File 17095: The purpose of the research would be the monitoring of sturgeon abundance and distribution through the Hudson River Biological Monitoring Program (HRBMP). The action area includes the Hudson River from River Mile 0 (Battery Park, Manhattan, NY) to River Mile 152 at Troy Dam (Albany, NY). The focus of the monitoring program would be fish identification, mark and recapture, and enumeration within defined Hudson River regions and depth strata. Researchers would non-lethally capture, handle, measure, weigh, scan for tags, insert passive integrated transponder (PIT) and dart tags, photograph, tissue sample, and release up to 82 shortnose sturgeon and 82 Atlantic sturgeon annually. Additionally, researchers would be permitted each year to lethally collect up to 40 shortnose sturgeon and up to 40 Atlantic sturgeon eggs and/or larvae (ELS). The permit would be valid for five years from the date of issuance.

Dated: April 5, 2012.
Tammy C. Adams,
Acting Chief, Permits and Conservation Division, Office of Protected Resources, National Marine Fisheries Service.

[FR Doc. 2012-8605 Filed 4-10-12; 8:45 am]

BILLING CODE 3510-22-P